FEDERAL ELECTION COMMISSION

Sunshine Act; Notice of Meetings

Date and Time: Wednesday, February 18, 2004 at 10 a.m.

Place: 999 E Street, NW., Washington, DC (ninth floor).

Status: This meeting will be open to the public.

Items to be Discussed: Correction and approval of minutes.

Continuation of draft Advisory Opinion 2003-37: Americans for a Better Country by Keith A. Davis, Treasurer.

Routine administrative matters.

* * * * *

Date and Time: Tuesday, February 24, 2004, at 10 a.m.

Place: 999 E Street, NW., Washington, DC.

Status: This meeting will be closed to the public.

Items to be discussed: Compliance matters pursuant to 2 U.S.C. 437g. Audits conducted pursuant to 2 U.S.C. 437g, 438(b), and title 26, U.S.C. Matters concerning participation in civil actions or proceedings or arbitration. Internal personnel rules and procedures or matters affecting a particular employee.

* * * * *

Person to contact for information: Robert Biersack, Acting Press Officer, telephone: (202) 694-1220.

Mary W. Dove,
Secretary of the Commission.

[FR Doc. 04-3185 Filed 2-10-04; 10:44 am]

BILLING CODE 6715-01-M